DEPARTMENT OF HOMELAND SECURITY

U.S. Customs and Border Protection

New Functionality Pertaining to Electronic Refunds in the Automated Commercial Environment

AGENCY: U.S. Customs and Border Protection, Department of Homeland Security.

ACTION: General notice.

SUMMARY: This document announces that U.S. Customs and Border Protection (CBP) is making the availability of electronic refunds via Automated Clearinghouse (ACH) more accessible by deploying a new functionality, the ACH Refund Authorization tab, in the Automated Commercial Environment Secure Data Portal (ACE Portal).

DATES: The new functionality in the ACE Portal will become operational on September 30, 2025.

ADDRESSES: Comments concerning this notice may be submitted at any time to Nate DeRosa at frn-achrefundsupport@cbp.dhs.gov with a subject line identifier reading, “ACH Refund.”

FOR FURTHER INFORMATION CONTACT: Nate DeRosa, Revenue Division, Office of Finance, at (317) 298-1042 or frn-achrefundsupport@cbp.dhs.gov.

SUPPLEMENTARY INFORMATION: Currently, to receive certain electronic refunds from U.S. Customs and Border Protection (CBP), each importer or person, business firm, or other organization that is entitled to receive such refunds or other disbursements from CBP must submit an Automated Clearinghouse (ACH) Refunds Enrollment Form via an email message to CBP's Revenue Division. Once CBP receives and manually processes the enrollment form, refunds are deposited electronically in the importer's bank account.

With this notice, CBP is announcing that it is making the availability of electronic refunds via ACH more accessible by deploying a new functionality, the ACH Refund Authorization tab, in the Automated Commercial Environment Secure Data Portal (ACE Portal). CBP developed the ACH Refund Authorization tab in the ACE Portal for faster processing of applications for electronic refunds via ACH (ACH Refund). This new tab in the ACE Portal is now the primary method for applying for ACH Refund for importers or similar parties that are entitled to receive refunds or disbursements from CBP and that are able to obtain an ACE Portal account, replacing the more manual email process. If an individual or entity is not able to obtain an ACE Portal account or otherwise cannot access the ACE Refund Authorization tab in the ACE Portal, the individual or entity may submit an ACH Refunds Enrollment Form for manual processing.

An importer or other party that is entitled to receive refunds or disbursements from CBP must have an ACE Portal account before applying for ACH Refund.¹ The ACE Portal account application process allows CBP to validate that the applicant is a person authorized to act on behalf of the importer or other party that is entitled to receive refunds or disbursements from CBP. Once the ACE Portal account is established, the account owner may log in, set up the account, and create user profiles and sub-accounts. Only individuals with the designated account owner role in the ACE Portal will be able to perform certain functions, including applying for ACH Refund. CBP is developing a new ACE Portal account user permission that will give account owners the ability to grant access to the ACH Refund Authorization tab to other trade account users. CBP will announce this new development at a later date.

¹ The application for an ACE Portal account and instructions on how to apply are found at https://www.cbp.gov/trade/automated/getting-started/portal-applying.

To apply for ACH Refund, the importer or other party with an account owner role in the ACE Portal that is entitled to receive refunds or disbursements from CBP must navigate to the ACH Refund Authorization tab within the ACE Portal and provide information for the U.S. bank account designated to receive electronic refunds. Once this bank account information is successfully submitted and approved in the ACE Portal, all future refunds owed to the importer or other party that is entitled to receive refunds or disbursements from CBP will be issued electronically to the designated bank account.²

² An importer or broker who created an ACE Portal account will be able to view the Refund ACE Report, which includes a summary of the total number of outstanding refunds requested, the total dollar amount requested in all outstanding refunds, and a consolidated table of all outstanding refunds and relevant data for the ACE account user's own refunds. The deployment and availability of the Refund ACE Report was announced in a Federal Register notice published on August 11, 2022 (87 FR 49600).

An importer may designate a third party, such as a licensed customs broker, to receive a refund check on behalf of the importer. To accomplish this, the importer must fill out and submit CBP Form 4811 (Special Address Notification) via an email message to the importer's assigned Center of Excellence and Expertise (Center) or the Center that most closely aligns with the tariff number of the importer's highest valued commodity, designating the third party as the recipient of the refund. At this time, third parties designated by an importer on a processed and approved CBP Form 4811 will continue to receive refunds via paper check until CBP transitions the refund process for designated third parties to electronic payment. CBP will announce any further requirements or expansions of the availability of electronic refunds, such as for designated third parties, in a separate document published in the Federal Register.

CBP encourages importers and other parties entitled to receive refunds or disbursements from CBP to apply for access to an ACE Portal account and utilize the new ACH Refund Authorization tab to receive refunds electronically and take advantage of the benefits associated with electronic refunds. This enhancement provides operational and functional benefits to both the trade community and CBP. Electronic refunds can be processed and deposited in the designated bank account in one to two business days, whereas the mailing of a traditional paper check takes much longer, in addition to the time it takes to deposit the check in the refund recipient's bank account. Electronic refunds also provide security benefits over paper checks as they are less likely to have post-payment issues, such as claims of missing or misdelivered payments or check fraud. For CBP, electronic refunds reduce the printing and mailing costs associated with paper checks and save resources that currently go towards supporting check fraud investigations, including the tracking, researching, and reissuing of check refunds.

Additionally, while third party refund recipients designated on a CBP Form 4811 will still receive paper checks at this time, CBP encourages these designated third parties to apply for access to an ACE Portal account and sign up for ACH Refund in order to be ready to receive refunds electronically when CBP announces that functionality. CBP will provide any support needed for setting up an ACE Portal account and applying for ACH Refund.

Jeffrey Caine,
Chief Financial Officer, U.S. Customs and Border Protection.

[FR Doc. 2025-18470 Filed 9-23-25; 8:45 am]

BILLING CODE 9111-14-P